COMMITTEE FOR PURCHASE FROM PEOPLE WHO ARE BLIND OR SEVERELY DISABLED

Procurement List: Proposed Addition and Deletions

AGENCY: Committee for Purchase From People Who Are Blind or Severely Disabled.

ACTION: Proposed addition to and deletions from the Procurement List.

SUMMARY: The Committee is proposing to add a product to the Procurement List that will be furnished by a nonprofit agency employing persons who are blind or have other severe disabilities, and delete services previously furnished by such agencies.

DATES: Comments must be received on or before September 18, 2016..

ADDRESSES: Committee for Purchase From People Who Are Blind or Severely Disabled, 1401 S. Clark Street Suite 715, Arlington, Virginia 22202-4149.

FOR FURTHER INFORMATION CONTACT: Barry S. Lineback, Telephone: (703) 603-7740, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Addition

If the Committee approves the proposed addition, the entities of the Federal Government identified in this notice will be required to procure the product listed below from the nonprofit agency employing persons who are blind or have other severe disabilities.

The following product is proposed for addition to the Procurement List for production by the nonprofit agency listed:

Product

NSN(s)—Product Name(s): 8465-00-NIB-0263—Airborne Rucksack, Modular Lightweight Load-Carrying Equipment (MOLLE), OCP2015

Mandatory Source(s) of Supply: Winston Salem Industries for the Blind, Inc.,Winston-Salem, NC

Mandatory Purchase for: 100% of the requirement of the U.S. Army

Contracting Activity: Army Contracting Command—Aberdeen Proving Ground, Natick Contracting Division

Distribution: C-List

Deletions

The following services are proposed for deletion from the Procurement List:

Services

Service Type: Janitorial/Custodial Service

Mandatory for: Gerald W. Heaney Federal Building and U.S. Courthouse, 515 West First Street, Duluth, MN

Mandatory Source(s) of Supply: Goodwill Industries Vocational Enterprises, Inc., Duluth, MN

Contracting Activity: Public Buildings Service, Property Management Service Center

Service Type: Custodial Service

Mandatory for: Superior National Forest Supervisors Office, 8901 Grand Avenue Place, Duluth, MN

Mandatory Source(s) of Supply: Goodwill Industries Vocational Enterprises, Inc., Duluth, MN

Contracting Activity: Forest Service, Superior National Forest

Service Type: Food Service Attendant Service

Mandatory for: 148th Fighter Wing: 4680 Viper St. (Dining Hall), Duluth, MN

Mandatory Source(s) of Supply: Goodwill Industries Vocational Enterprises, Inc., Duluth, MN

Contracting Activity: Dept of the Army, W7NG USPFO ACTIVITY MN ARNG

Service Type: Janitorial/Custodial Service

Mandatory for: U.S. Army Reserve Center: 1500 St. Louis Avenue, Duluth, MN

Mandatory Source(s) of Supply: Goodwill Industries Vocational Enterprises, Inc., Duluth, MN

Contracting Activity: Dept of the Army, W6QM MICC FT MCCOY (RC)

Service Type: Recycling Service

Mandatory for: March Air Reserve Base, March Air Force Reserve Base, CA

Mandatory Source(s) of Supply: Valley Resource Center for the Retarded, Inc., Hemet, CA

Contracting Activity: Dept of the Air Force, FA7014 AFDW PK

Service Type: Mailing Service

Mandatory for: USDA, Farm Service Agency, Phoenix, AZ

Mandatory Source(s) of Supply: Goodwill Community Services, Inc., Phoenix, AZ

Contracting Activity: Department of Agriculture, Procurement Operations Division

Service Type: Car Wash Service

Mandatory for: Customs and Border Protection, Indio Border Station, 83-801 Vin Deo Circle, Indio, CA

Mandatory Source(s) of Supply: Sheltering Wings Corp., Blythe, CA

Contracting Activity: U.S. Customs and Border Protection, Procurement Directorate

Service Type: Custodial Service

Mandatory for: FAA, Air Traffic Control Tower, Duluth International Airport, 4525 Airport Approach Road, Duluth, MN

Mandatory Source(s) of Supply: Goodwill Industries Vocational Enterprises, Inc., Duluth, MN

Contracting Activity: Dept of Transportation, Federal Aviation Administration

Service Type: Recycling Service

Mandatory for: Naval Weapons Station: NAWS Recycling Center, China Lake, CA

Mandatory Source(s) of Supply: Desert Area Resources and Training, Ridgecrest, CA

Contracting Activity: Dept of the Navy, U.S. Fleet Forces Command

Service Type: Grounds Maintenance Service

Mandatory for: China Lake Naval Air Weapons Station: Tot Lot Parks- Housing Area, China Lake, CA

Mandatory Source(s) of Supply: Desert Area Resources and Training, Ridgecrest, CA

Contracting Activity: Dept of the Navy, U.S. Fleet Forces Command

Service Type: Grounds Maintenance Service

Mandatory for: Defense Commissary Agency, China Lake Naval Air Weapons Station Commissary, 1 Administration Circle, China Lake, CA

Mandatory Source(s) of Supply: Desert Area Resources and Training, Ridgecrest, CA

Contracting Activity: Dept of the Navy, NAVFAC SOUTHWEST

Barry S. Lineback,
Director, Business Operations.

[FR Doc. 2016-19841 Filed 8-18-16; 8:45 am]

BILLING CODE 6353-01-P